DEPARTMENT OF LABOR

Employment and Training Administration

[TA-W-81,482]

Quad/Graphics Inc.,Including On-Site Leased Workers From Staff Mart and A.I.D.,Jonesboro, AR; Amended Certification Regarding Eligibility To Apply for Worker Adjustment Assistance

In accordance with Section 223 of the Trade Act of 1974, as amended (“Act”), 19 U.S.C. 2273, the Department of Labor issued a Certification of Eligibility to Apply for Worker Adjustment Assistance on June 21, 2012, applicable to workers of Quad/Graphics Inc., Jonesboro, Arkansas. The Department's notice of determination was published in the Federal Register on July 10, 2012 (77 FR 40641).

At the request of a state workforce office, the Department reviewed the certification for workers of the subject firm. The workers were engaged in activities related to the production of printed material such as magazines and catalogues.

The company reports that workers leased from Staff Mart and A.I.D. were employed on-site at the Jonesboro, Arkansas location of Quad/Graphics, Inc. The Department has determined that these workers were sufficiently under the control of the subject firm to be considered leased workers.

Based on these findings, the Department is amending this certification to include workers leased from Staff Mart and A.I.D. working on-site at the Jonesboro, Arkansas location of Quad/Graphics, Inc.

The amended notice applicable to TA-W-81,482 is hereby issued as follows:

All workers of Staff Mart and A.I.D., reporting to Quad/Graphics, Inc., Jonesboro Arkansas, who became totally or partially separated from employment on or after April 5, 2011 through June 21, 2014, and all workers in the group threatened with total or partial separation from employment on the date of certification through two years from the date of certification, are eligible to apply for adjustment assistance under Chapter 2 of Title II of the Trade Act of 1974, as amended.

Signed in Washington, DC, this 19th day of July 2012.
Elliott S. Kushner,
Certifying Officer, Office of Trade Adjustment Assistance.

[FR Doc. 2012-18413 Filed 7-27-12; 8:45 am]

BILLING CODE 4510-FN-P